DEPARTMENT OF DEFENSE

Department of the Air Force

[USAF-2008-0007]

Privacy Act of 1974; System of Records

AGENCY: Department of the Air Force, DoD.

ACTION: Notice to Add a System of Records.

SUMMARY: The Department of the Air Force proposes to add a system of records to its inventory of record systems subject to the Privacy Act of 1974 (5 U.S.C. 552a), as amended.

DATES: The changes will be effective on May 12, 2008 unless comments are received that would result in a contrary determination.

ADDRESSES: Send comments to the Air Force Privacy Act Officer, Office of Warfighting Integration and Chief Information Officer, SAF/XCISI, 1800 Air Force Pentagon, Suite 220, Washington, DC 20330-1800.

FOR FURTHER INFORMATION CONTACT: Ms. Novella Hill at (703) 696-6518.

SUPPLEMENTARY INFORMATION: The Department of the Air Force notices for systems of records subject to the Privacy Act of 1974 (5 U.S.C. 552a), as amended, have been published in the Federal Register and are available from the address above.

The proposed systems reports, as required by 5 U.S.C. 552a(r) of the Privacy Act of 1974, as amended, were submitted on March 28, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: April 4, 2008.
L.M. Bynum,
Alternate OSD Federal Register Liaison Officer, Department of Defense.

F014 AF/A2FM A

System name:

Weaponizing Intelligence Combat Capability-Training Documentation System (WICC-TDS).

System location:

Headquarters Air Combat Command (ACC/A2RT), ACC Network Operations and Security Center (NOSC), 37 Elm Street, North Computer Room, Langley AFB, VA 23665-2009.

Categories of individuals covered by the system:

All personnel involved in intelligence functions, activities or organizations to include active duty, Guard, and reserve personnel as well as Department of Defense (DoD) civilians and contractors.

Categories of records in the system:

Individual's Name, Social Security Number (SSN), Gender, Rank, unclassified e-Mail address, SECRET Internet Protocol Routed Network (SIPRNET) e-Mail address, Sensitive Compartmented Information (SCI) system e-Mail address, Primary Air Force Specialty Code (AFSC), Duty AFSC, Control AFSC, Skill Level, Special Experience Identifiers (SEIs) (up to three), formal schools completed, duty title, Mission Design Series (MDS) assigned, work center, Position Number Unit Manning Document (UMD), Personnel Accounting Symbol (PAS) Code, unit type, duty location, street address, duty location base, state, zip code, country, Defense Switched Network (DSN) telephone number, DSN fax number, Major Command, home telephone, work telephone, mobile telephone, Air Expeditionary Force (AEF) Tasked, Supervisor's rank and name, Status (Active duty, Guard, Reserve), access required (trainee, supervisor/trainer, certifier/evaluator, Senior Intelligence Officer (SIO)/Commander, Unit Systems Administrator, Higher Headquarters), and training and evaluation records.

Authority for maintenance of the system:

10 U.S.C. 8013, Secretary of the Air Force; 10 U.S.C. 9832, Property Accountability; AFPD 14-2, Intelligence Rules and Procedures; AFI 14-202, Volume 1, Intelligence Training; Volume 2, Intelligence Standardization/Evaluation Program; and Volume 3, General Intelligence Rules; and E.O. 9397 (SSN).

Purpose(s):

Data collected is used to identify individuals and track their intelligence qualifications. Training and evaluation records will assist supervisors in managing personnel and programs.

Routine uses of records maintained in the system including categories of users and the purpose of such uses:

In addition to those disclosures generally permitted under 5 U.S.C. 552a(b) of the Privacy Act of 1974, these records or information contained therein may specifically be disclosed outside the (DoD) as a routine use pursuant to 5 U.S.C. 552a(b)(3) as follows:

The DoD `Blanket Routine Uses' published at the beginning of the Air Force's compilation of record system notices apply to this system.

Policies and practices for storing, retrieving, accessing, retaining, and disposing of records in the system:

Storage:

Paper records in file folders and electronic storage media.

Retrievability:

By Social Security Number (SSN).

Safeguards:

Records are accessed by users with the appropriate profiles or roles and by persons responsible for servicing the record system in performance of their official duties. Records are maintained in secure, limited access, or monitored areas. Database is monitored and access is password protected. Physical entry by unauthorized persons is restricted through the use of locks, guards, passwords, or other administrative procedures. Archived data is stored on discs, or magnetic tapes, which are kept in a locked or controlled access area. Access to personal information is limited to those individuals who require the records to perform their official assigned duties.

Retention and disposal:

Records will be deleted two years after individual's mission qualification lapses.

System manager(s) and address:

Headquarters Air Combat Command/A2RT, Weaponizing Intelligence Combat Capability-Training Documentation System (WICC-TDS), 209 Thornell Ave, Bldg 623, Langley AFB, VA 23665-2717.

Notification procedure:

Individuals seeking to determine whether information about themselves is contained in this system should address written inquiries to Headquarters Air Combat Command/A2RT, 209 Thornell Ave, Bldg 623, Langley AFB, VA 23665-2717.

For verification purposes individuals should provide full name and Social Security Number.

Visitors should present picture identification such as a valid driver's license, military or civilian employment identification card or any other similar picture identification.

Record access procedures:

Individuals seeking to determine whether information about themselves is contained in this system should address written inquiries to Headquarters Air Combat Command/A2RT, 209 Thornell Ave, Bldg 623, Langley AFB, VA, 23665-2717.

For verification purposes individuals should provide full name and Social Security Number.

Visitors should present picture identification such as a valid driver's license, military or civilian employment.

Contesting records procedures:

The Air Force rules for accessing records, and for contesting contents and appealing initial agency determinations are published in Air Force Instruction 33-332, Privacy Act Program; 32 CFR part 806b; or may be obtained from the system manager.

Record source categories:

Information is obtained from the user entry only.

Exemptions claimed for the system:

None.

[FR Doc. E8-7613 Filed 4-9-08; 8:45 am]

BILLING CODE 5001-06-P